DEPARTMENT OF THE INTERIOR

Bureau of Land Management

[WY-921-1430-ET; WYW 132601]

Public Land Order No. 7546; Withdrawal of Public Lands for Protection of Sweetwater River Recreational, Scenic, Riparian, Historic, and Wildlife Resources; Wyoming

AGENCY: Bureau of Land Management, Interior.

ACTION: Public Land Order.

SUMMARY: This order withdraws 4,943.13 acres of public lands from surface entry and mining for a period of 20 years to protect and preserve significant recreational, scenic, riparian, historic, and wildlife resources along segments of the Sweetwater River. The lands are not available for mineral leasing in accordance with the Bureau of Land Management Green River Resource Management Plan.

EFFECTIVE DATE: December 9, 2002.

FOR FURTHER INFORMATION CONTACT: Janet Booth, BLM Wyoming State Office, 5353 N. Yellowstone Road, P.O. Box 1828, Cheyenne, Wyoming 82003, 307-775-6124.

SUPPLEMENTARY INFORMATION: By virtue of the authority vested in the Secretary of the Interior by Section 204 of the Federal Land Policy and Management Act of 1976, 43 U.S.C. 1714 (1994), it is ordered as follows:

1. Subject to valid existing rights, the following described public lands are hereby withdrawn from settlement, sale, location, or entry under the general land laws, including the United States mining laws (30 U.S.C. Ch. 2 (1994)), to protect and preserve significant recreational, scenic, riparian, historic, and wildlife resources:

Sixth Principal Meridian

T. 28 N., R. 102 W.,

Sec. 3, lots 2, 3, and 4, SW¼, W½SE¼, and SE¼SE¼;

Sec. 4, lots 1 to 4, inclusive, N½SW¼, E½SW¼SW¼, SE¼SW¼, and SE¼;

Sec. 5, lot 1 and NE¼SE¼;

Sec. 9, W½NE¼, SE¼NE¼, NE¼NW¼, NE¼SE¼NW¼, and N½NE¼SE¼;

Sec. 10, S½NE¼NE¼, W½NE¼, SE¼NE¼, NW¼, N½SW¼, N½SE¼SW¼, N½SE¼, E½SW¼SE¼, and SE¼SE¼;

Sec. 11, SW¼NW¼, NW¼SW¼, SW¼SE¼NW¼, and W½NE¼SW¼.

T. 29 N., R. 102 W.,

Sec. 5, lots 3 and 4, S½NW¼, N½SW¼, SE¼SW¼, W½SE¼, and SE¼SE¼;

Sec. 6, lot 1 and SE¼NE¼;

Sec. 8, NE¼, NE¼NW¼, E½SE¼NW¼, E½E½SW¼, and SE¼;

Sec. 9, W½W½NW¼, W½NW¼SW¼, and SW¼SW¼;

Sec. 17, N½NE¼, E½SW¼NE¼, SE¼NE¼, and NE¼SE¼;

Sec. 27, SW¼NE¼, E½SW¼, W½NE¼SE¼, and W½SE¼;

Sec. 34, NW¼NE¼, S½NE¼, NE¼NE¼NW¼, and N½SE¼;

Sec. 35, W½W½.

T. 30 N., R. 102 W.,

Sec. 19, lots 1 to 4, inclusive, SW¼NE¼, SE¼NW¼, E½SW¼, and W½SE¼;

Sec. 30, W½NE¼, W½SE¼NE¼, E½NW¼, E½SW¼, W½NE¼SE¼, W½SE¼, and SE¼SE¼;

Sec. 31, NE¼, E½NW¼, E½NE¼SW¼, N½SE¼, and SE¼SE¼;

Sec. 32, SW¼.

The areas described aggregate 4,943.13 acres in Fremont County.

2. The withdrawal made by this order does not alter the applicability of those public land laws governing the use of the land under lease, license, or permit, or governing the disposal of the mineral or vegetative resources other than under the mining laws.

3. This withdrawal will expire 20 years from the effective date of this order, unless, as a result of a review conducted before the expiration date pursuant to Section 204(f) of the Federal Land Policy and Management Act of 1976, 43 U.S.C. 1714(f) (1994), the Secretary determines that the withdrawal shall be extended.

Dated: November 20, 2002.
Rebecca W. Watson,
Assistant Secretary—Land and Minerals Management.

[FR Doc. 02-30986 Filed 12-6-02; 8:45 am]

BILLING CODE 4310-22-P